DEPARTMENT OF COMMERCE

International Trade Administration

[A-570-601]

Tapered Roller Bearings and Parts Thereof, Finished and Unfinished, From the People's Republic of China: Preliminary Results and Intent To Rescind the Review in Part; 2017-2018

AGENCY: Enforcement and Compliance, International Trade Administration, Department of Commerce.

SUMMARY: The Department of Commerce (Commerce) preliminary determines that it is appropriate to rescind this administrative review of the antidumping duty order on tapered roller bearings and parts thereof, finished and unfinished (TRBs), from the People's Republic of China (China) with respect to three of the four companies involved in this review because they had no bona fide (i.e., reviewable) sales to the United States during the period of review (POR), and to find that the fourth respondent is not eligible for a separate rate. Interested parties are invited to comment on these preliminary results.

DATES: Applicable August 15, 2019.

FOR FURTHER INFORMATION CONTACT: Alex Wood or Whitley Herndon, AD/CVD Operations, Office II, Enforcement and Compliance, International Trade Administration, U.S. Department of Commerce, 1401 Constitution Avenue NW, Washington, DC 20230; telephone: (202) 482-1959 or (202) 482-6274, respectively.

SUPPLEMENTARY INFORMATION:

Background

In August 2018, Commerce published a notice of initiation of an administrative review covering the POR June 1, 2017 through May 31, 2018, with respect to 14 companies.¹ In November 2018, as the result of timely withdrawal requests, we rescinded the review with respect to 10 exporters.² This review covers three mandatory respondents, Shandong Aokai Bearing Co., Ltd. (Aokai); Taizhou Zson Bearing Technology Co., Ltd. (Zson); and Zhejiang Jingli Bearing Technology Co. Ltd. (Jingli), plus one separate rate applicant, Hangzhou Xiaoshan Dingli Machinery Co., Ltd. (Dingli).

¹ See Initiation of Antidumping and Countervailing Duty Administrative Reviews, 83 FR 39688 (August 10, 2018); see also Initiation of Antidumping and Countervailing Duty Administrative Reviews, 83 FR 45596, 45603 (September 10, 2018), correcting the spelling of one company name.

² See Tapered Roller Bearings and Parts Thereof, Finished and Unfinished, from the People's Republic of China: Rescission, in Part, of Antidumping Duty Administrative Review; 2017-2018, 83 FR 58229 (November 19, 2018).

Commerce exercised its discretion to toll all deadlines affected by the partial federal government closure from December 22, 2018 through the resumption of operations on January 29, 2019.³ The revised deadline for the preliminary results in this review is now August 9, 2019.

³ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding affected by the partial federal government closure have been extended by 40 days. If the new deadline falls on a non-business day, in accordance with Commerce's practice, the deadline will become the next business day.

Scope of the Order

Imports covered by the order are shipments of tapered roller bearings and parts thereof, finished and unfinished, from China; flange, take up cartridge, and hanger units incorporating tapered roller bearings; and tapered roller housings (except pillow blocks) incorporating tapered rollers, with or without spindles, whether or not for automotive use. These products are currently classifiable under Harmonized Tariff Schedule of the United States (HTSUS) item numbers 8482.20.00, 8482.91.00.50, 8482.99.15, 8482.99.45, 8483.20.40, 8483.20.80, 8483.30.80, 8483.90.20, 8483.90.30, 8483.90.80, 8708.70.6060, 8708.99.2300, 8708.99.4850, 8708.99.6890, 8708.99.8115, and 8708.99.8180. Although the HTSUS item numbers are provided for convenience and customs purposes, the written description of the scope of the order is dispositive.

Methodology

Commerce is conducting this review in accordance with section 751(a)(1)(B) of the Tariff Act of 1930, as amended (the Act). For a full description of the methodology underlying our conclusions, see the Preliminary Decision Memorandum.⁴ The Preliminary Decision Memorandum is a public document and is on file electronically via Enforcement and Compliance's Antidumping and Countervailing Duty Centralized Electronic Service System (ACCESS). ACCESS is available to registered users at https://access.trade.gov, and to all parties in the Central Records Unit, Room B8024 of the main Commerce building. In addition, a complete version of the Preliminary Decision Memorandum can be found at http://enforcement.trade.gov/frn/. The signed Preliminary Decision Memorandum and the electronic version of the Preliminary Decision Memorandum are identical in content. A list of the topics discussed in the Preliminary Decision Memorandum is attached as the appendix to this notice.

⁴ See Memorandum, “Decision Memorandum for the Preliminary Results of the 2017-2018 Antidumping Duty Administrative Review of Tapered Roller Bearings and Parts Thereof, Finished and Unfinished, from the People's Republic of China,” dated concurrently with, and hereby adopted by, this notice (Preliminary Decision Memorandum).

China-Wide Entity

Under Commerce's current policy regarding the conditional review of the China-wide entity, the China-wide entity will not be under review unless a party specifically requests, or Commerce self-initiates, a review of the entity.⁵ Because no party requested a review of the China-wide entity in this review, the entity is not under review and the entity's rate is not subject to change (i.e., 92.84 percent).⁶ Because Zson did not respond to the questionnaire, Commerce preliminarily determines that Zson is not eligible for a separate rate and is a part of the China-wide entity.

⁵ See Antidumping Proceedings: Announcement of Change in Department Practice for Respondent Selection in Antidumping Duty Proceedings and Conditional Review of the Nonmarket Economy Entity in NME Antidumping Duty Proceedings, 78 FR 65963 (November 4, 2013).

⁶ See Tapered Roller Bearings and Parts Thereof, Finished and Unfinished, from the People's Republic of China: Final Results of Antidumping Duty Administrative Review 74 FR 3987, 3988-89 (January 22, 2009).

Preliminary Partial Recession of the Antidumping Administrative Review

As discussed in the Bona Fides Memoranda,⁷ Commerce preliminarily finds the sales made by Aokai, Dingli, and Jingli, which serve as the basis for our review of these companies, are not bona fide sales. Commerce reached this conclusion based on the totality of the record information surrounding Aokai's, Dingli's, and Jingli's reported sales, including, but not limited to, the sales price and quantity, timing of the sales, the identity of the U.S. customers and how they purchased and resold the TRBs in question, and the fact that each exporter made only one sale during the POR.

⁷ See Memoranda, “31st Administrative Review of Tapered Roller Bearings and Parts Thereof, Finished and Unfinished, from the People's Republic of China: Analysis of the Bona Fides of Shandong Aokai Bearing Co., Ltd.'s Sale”; “31st Administrative Review of Tapered Roller Bearings and Parts Thereof, Finished and Unfinished, from the People's Republic of China: Analysis of the Bona Fides of Hangzhou Xiaoshan Dingli Machinery Co., Ltd.'s Sale”; and “31st Administrative Review of Tapered Roller Bearings and Parts Thereof, Finished and Unfinished, from the People's Republic of China: Analysis of the Bona Fides of Zhejiang Jingli Bearing Technology Co. Ltd.'s Sale,” all dated August 9, 2019 (collectively, Bona Fides Memoranda).

Because the non-bona fide sales were the only reported sales of subject merchandise during the POR, we find that Aokai, Dingli, and Jingli had no reviewable transactions during this POR. Accordingly, we are preliminarily rescinding this administrative review with respect to Aokai, Dingli, and Jingli.⁸ Given that the factual information used in our bona fides analysis of Aokai's, Dingli's, and Jingli's sales involves business proprietary information, see the Bona Fides Memoranda for a full discussion of the basis for our preliminary findings.

⁸ See 19 CFR 351.213(d)(3).

Disclosure and Public Comment

Interested parties may submit case briefs no later than 30 days after the date of publication of these preliminary results of review.⁹ Rebuttals to case briefs may be filed no later than five days after case briefs are filed and all rebuttal briefs must be limited to comments raised in the case briefs.¹⁰ Parties who submit comments are requested to submit with the argument: (1) A statement of the issue; (2) a brief summary of the argument; and (3) a table of authorities.¹¹

⁹ See 19 CFR 351.309(c)(1)(ii).

¹⁰ See 19 CFR 351.309(d).

¹¹ See 19 CFR 351.309(c)(2).

Any interested party may request a hearing within 30 days of publication of this notice.¹² Hearing requests should contain the following information: (1) The party's name, address, and telephone number; (2) the number of participants; and (3) a list of the issues to be discussed. Oral presentations will be limited to issues raised in the briefs.¹³ If a request for a hearing is made, parties will be notified of the time and date for the hearing to be held at the U.S. Department of Commerce, 1401 Constitution Avenue NW, Washington, DC 20230.¹⁴

¹² See 19 CFR 351.310(c).

¹³ Id.

¹⁴ See 19 CFR 351.310(d).

All submissions, with limited exceptions, must be filed electronically using ACCESS. An electronically-filed document must be received successfully in its entirety by 5:00 p.m. Eastern Time (ET) on the due date.¹⁵ Documents excepted from the electronic submission requirements must be filed manually (i.e., in paper form) with the APO/Dockets Unit in Room 18022 and stamped with the date and time of receipt by 5:00 p.m. ET on the due date.¹⁶

¹⁵ See 19 CFR 351.103(c).

¹⁶ See 19 CFR 351.303(b); and “ACCESS Handbook on Electronic Filing Procedures Enforcement and Compliance International Trade Administration U.S. Department of Commerce,” dated October 24, 2017, available at https://access.trade.gov/help/Handbook_on_Electronic_Filing_Procedures.pdf.

Commerce intends to issue the final results of this administrative review, which will include the results of its analysis of all issues raised in the case briefs, no later than 90 days after the date these preliminary results are issued, pursuant to section 751(a)(2)(B) of the Act.

Assessment Rates

Upon issuance of the final results of the administrative review, Commerce will determine, and U.S. Customs and Border Protection (CBP) shall assess, antidumping duties on all appropriate entries covered by this review.¹⁷ For the final results, if we continue to treat Zson as part of the China-wide entity, we will instruct CBP to assess dumping duties on Zson's entries of subject merchandise at the rate of 92.84 percent, the current rate established for the China-wide entity.

¹⁷ See 19 CFR 351.212(b)(1).

If Commerce proceeds to a final rescission of this administrative review for Aokai, Dingli, and Jingli, their entries will be assessed at the rate entered. If we do not proceed with a final rescission of this administrative review for Aokai, Dingli, and Jingli, pursuant to 19 CFR 351.212(b)(1), we will calculate importer-specific assessments rates. We will instruct CBP to assess antidumping duties on all appropriate entries covered by this review if the importer-specific assessment rate calculated in the final results of this review is above de minimis.

We intend to issue assessment instructions to CBP 15 days after the publication of the final results of these reviews.

Cash Deposit Requirements

The following cash deposit requirements will be effective upon publication of the final results of this administrative review for all shipments of the subject merchandise entered, or withdrawn from warehouse, for consumption on or after the publication date, as provided for by section 751(a)(2)(C) of the Act: (1) For previously investigated or reviewed Chinese and non-Chinese exporters not listed above that have separate rates, the cash deposit rate will continue to be equal to the exporter-specific weighted-average dumping margin published for the most recently-completed segment of this proceeding; (2) for all Chinese exporters of subject merchandise that have not been found to be entitled to a separate rate, the cash deposit rate will be the cash deposit rate established for the China-wide entity, 92.84 percent; and (3) for all exporters of subject merchandise which are not located in China and which are not eligible for a separate rate, the cash deposit rate will be the rate applicable to the Chinese exporter(s) that supplied that non-Chinese exporter. These deposit requirements, when imposed, shall remain in effect until further notice.

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification to Interested Parties

We are issuing and publishing these preliminary results of review in accordance with sections 751(a)(l), 751(a)(2)(B) and 777(i)(l) of the Act, and 19 CFR 351.221(b)(4).

Dated: August 9, 2019.
Jeffrey I. Kessler,
Assistant Secretary for Enforcement and Compliance.

Appendix—List of Topics Discussed in the Preliminary Decision Memorandum

I. Summary

II. Background

III. Scope of the Order

IV. Discussion of the Methodology

V. Recommendation

[FR Doc. 2019-17540 Filed 8-14-19; 8:45 am]

BILLING CODE 3510-DS-P